NATIONAL AERONAUTICS AND SPACE ADMINISTRATION

[18-082]

NASA Federal Advisory Committees; Annual Invitation

AGENCY: National Aeronautics and Space Administration.

ACTION: Annual Invitation for Public Nominations by U.S. Citizens for Service on NASA Federal Advisory Committees.

SUMMARY: NASA announces its annual invitation for public nominations for service on NASA Federal advisory committees chartered under the Federal Advisory Committee Act (FACA). U.S. citizens may submit self-nominations for consideration as potential members of NASA's Federal advisory committees. NASA's Federal advisory committees have member vacancies from time to time throughout the year, and NASA will consider self-nominations to fill such intermittent vacancies. NASA is committed to selecting members to serve on its Federal advisory committees based on their individual expertise, knowledge, experience, and current/past contributions to the relevant subject area.

DATES: The deadline for NASA receipt of all public nominations is 30 days from the date of publication of this notice in the Federal Register.

ADDRESSES: Self-nominations from interested U.S. citizens must be sent electronically to NASA in letter form, be signed, and must include the name of specific NASA Federal advisory committee of interest for NASA consideration. Self-nomination letters are limited to specifying interest in only one (1) NASA Federal advisory committee per year. The following additional information is required to be attached to each self-nomination letter (i.e., cover letter): (1) Professional resume (one-page maximum); (2) professional biography (one-page maximum). Please submit the self-nomination package as a single package containing cover letter and the two required attachments to hq-nasanoms@mail.nasa.gov. All public self-nomination packages must be submitted electronically via email to NASA; paper-based documents sent through postal mail (hard-copies) will not be accepted. NOTE: Nomination letters that are noncompliant with inclusion of the mandatory documents listed above will not receive further consideration by NASA.

FOR FURTHER INFORMATION CONTACT: To view advisory committee charters and obtain further information on NASA's Federal advisory committees, please visit the NASA Advisory Committee Management Division website noted below. For any questions, please contact Ms. Marla King, Advisory Committee Specialist, Advisory Committee Management Division, Office of International and Interagency Relations, NASA Headquarters, Washington, DC 20546, (202) 358-1148.

SUPPLEMENTARY INFORMATION: NASA's twelve (12) Federal advisory committees are listed below. The individual charters may be found at the NASA Advisory Committee Management Division website at http://oiir.hq.nasa.gov/acmd.html:

• Aerospace Safety Advisory Panel

• Applied Sciences Advisory Committee

• Astrophysics Advisory Committee

• Earth Science Advisory Committee

• Heliophysics Advisory Committee

• Human Exploration and Operations Research Advisory Committee

• International Space Station Advisory Committee

• International Space Station National Laboratory Advisory Committee

• NASA Advisory Council

• National Space-Based Positioning, Navigation and Timing Advisory Board

• National Space Council Users' Advisory Group

• Planetary Science Advisory Committee

Patricia Rausch,
Advisory Committee Management Officer, National Aeronautics and Space Administration.

[FR Doc. 2018-23294 Filed 10-24-18; 8:45 am]

BILLING CODE 7510-13-P